DEPARTMENT OF TRANSPORTATION

Federal Aviation Administration

14 CFR Part 71

[Docket No. FAA-2024-0184; Airspace Docket No. 23-AWP-69]

RIN 2120-AA66

Modification of Class D Airspace and Establishment of Class E Airspace; Sacramento Mather Airport, Sacramento, CA

AGENCY: Federal Aviation Administration (FAA), DOT.

ACTION: Final rule.

SUMMARY: This action modifies the Class D airspace extending upward from the surface to and including 2,600 feet mean sea level (MSL) and establishes Class E airspace extending upward from 700 feet above the surface at Sacramento Mather Airport, Sacramento, CA. Additionally, this action makes administrative modifications to update the airport's Class D airspace legal description. These actions support the safety and management of instrument flight rules (IFR) and visual flight rules (VFR) operations at the airport.

DATES: Effective date 0901 UTC, December 26, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Nathan A. Chaffman, Federal Aviation Administration, Western Service Center, Operations Support Group, 2200 S. 216th Street, Des Moines, WA 98198; telephone (206) 231-3460.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class D and establishes Class E airspace to support IFR operations at Sacramento Mather Airport, Sacramento, CA.

History

The FAA published an NPRM for Docket No. FAA-2024-0184 in the Federal Register (89 FR 27695; April 18, 2024), proposing to modify Class D and establish Class E airspace at Sacramento Mather Airport, Sacramento, CA. Interested parties were invited to participate in this rulemaking effort by submitting written comments on the proposal to the FAA. No comments were received.

Differences From the NPRM

The Operations Support Group discovered that the proposed Class E5 northeast extension, as described in the NPRM, was from a different measurement point than the airport reference point (ARP). The Class E5 airspace area dimension remain the same. The amended legal description originated from the Mather's airport reference point to avoid misinterpretation of the distance. The amended text will read, “within 6 miles northwest and 9 miles southeast of the 054° bearing extending from 12.7 miles northeast to 37 miles northeast of the airport.”

Incorporation by Reference

Class D and Class E5 airspace designations are published in paragraphs 5000 and 6005, respectively, of FAA Order JO 7400.11, Airspace Designations and Reporting Points, which is incorporated by reference in 14 CFR 71.1 on an annual basis. This document amends the current version of that order, FAA Order JO 7400.11H, dated August 11, 2023, and effective September 15, 2023. These updates would be published in the next update to FAA Order JO 7400.11. That order is publicly available as listed in the ADDRESSES section of this document. These amendments will be published in the next update to FAA Order JO 7400.11.

FAA Order JO 7400.11H lists Class A, B, C, D, and E airspace areas, air traffic service routes, and reporting points.

The Rule

This action amends 14 CFR part 71 by modifying the Class D airspace and establishing Class E airspace extending upward from 700 feet above the surface at Sacramento Mather Airport, Sacramento, CA.

The Class D surface area is comprised of a 4.5-mile radius of the airport, up to and including 2,600 feet MSL. This airspace is modified to include an extension centered on the 061° bearing from the airport, extending 1.8 miles beyond the existing radius. This extension will better contain departing IFR operations while utilizing the Runway (RWY) 4 Left (L) and RWY 4 Right (R) obstacle departure procedures (ODP) until reaching the base of adjacent controlled airspace.

Class E airspace extending upward from 700 feet above the surface is established to appropriately contain arriving IFR operations below 1,500 feet above the surface and departing IFR operations until reaching 1,200 feet above the surface at Sacramento Mather Airport. The airport utilizes the Sacramento very high frequency omnidirectional range/tactical air navigation (VORTAC) Class E airspace for some of its procedure containment, but that airspace is not sufficient in containing the Area Navigation (RNAV) (Global Positioning System [GPS]) RWY 22L approach at Sacramento Mather Airport. On the same approach, the point at which an arriving aircraft is expected to descend below 1,500 feet above the surface lies within the hold-in-lieu of procedure turn holding pattern. By rule, that location requires the entirety of the holding area also be contained within Class E airspace extending upward from 700 feet above the surface.

Finally, the FAA makes administrative modifications to the airport's Class D airspace legal description. The location of the airspace is incorrect and is changed to read “Sacramento, CA” instead of “Sacramento Mather Airport, CA.” The geographic coordinates of the airport are updated to match the FAA's database. Lastly, Sacramento Mather Airport has part-time Class D airspace but does not include a part-time statement within the legal description. Part-time verbiage is added to the legal description to properly describe the airspace.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11H, Airspace Designations and Reporting Points, dated August 11, 2023, and effective September 15, 2023, is amended as follows:

Paragraph 5000 Class D Airspace

* * * * *

AWP CA D Sacramento, CA [Amended]

Sacramento Mather Airport, CA

(Lat. 38°33′19″ N, long 121°17′50″ W)

That airspace extending upward from the surface to and including 2,600 feet MSL within a 4.5-mile radius of the airport, and within 1.9 miles each side of the 061° bearing from the airport, extending from the 4.5-mile radius to 6.3 miles northeast of the airport. This Class D airspace area is effective during the specific dates and times established in advance by a Notice to Air Missions. The effective date and time will thereafter be continuously published in the Chart Supplement.

* * * * *

Paragraph 6005 Class E Airspace Areas Extending Upward From 700 Feet or More Above the Surface of the Earth.

* * * * *

AWP CA E5 Sacramento, CA [New]

Sacramento Mather Airport, CA

(Lat. 38°33′19″ N, long. 121°17′50″ W)

That airspace extending upward from 700 feet above the surface within a 6.8-mile radius of the airport from the 075° bearing clockwise to the 210° bearing, and within 2.8 miles northwest and 2.4 miles southeast of the 054° bearing extending from the airport to 12.7 miles northeast, and within 6 miles northwest and 9 miles southeast of the 054° bearing extending from 12.7 miles northeast of the airport to 37 miles northeast, and within 2.8 miles either side of the 234° bearing extending from the airport to 10.9 miles southwest.

* * * * *

Issued in Des Moines, Washington, on September 3, 2024.
B.G. Chew,
Group Manager, Operations Support Group, Western Service Center.

[FR Doc. 2024-20198 Filed 9-6-24; 8:45 am]

BILLING CODE 4910-13-P